DEPARTMENT OF TRANSPORTATION

Federal Aviation Administration

14 CFR Part 71

[Docket No. FAA-2008-0170; Airspace Docket No. 08-AEA-16]

Modification of Class E Airspace; Staunton, VA

AGENCY: Federal Aviation Administration (FAA), DOT.

ACTION: Final rule, confirmation of effective date.

SUMMARY: This action confirms the effective date of a direct final rule published in the Federal Register (73 FR 16751) that modifies the effective time of the Class E Airspace at Staunton, VA. The Shenandoah Valley Regional Airport Commission has requested to change their current Class E2 Airspace from part time (currently 1200 to 0400 Zulu) to full time. This action enhances the safety and management of Instrument Flight Rule (IFR) operations in the area by providing the required controlled airspace to support terminal operations continuously at Staunton, VA.

DATES: 0901 UTC, Effective June 5, 2008. The Director of the Federal Register approves this incorporation by reference action under title 1, Code of Federal Regulations, part 51, subject to the annual revision of FAA Order 7400.9 and publication of conforming amendments.

FOR FURTHER INFORMATION CONTACT: Melinda Giddens, Operations Support Group, Federal Aviation Administration, P.O. Box 20636, Atlanta, Georgia 30320; Telephone (404) 305-5610, Fax 404-305-5572.

SUPPLEMENTARY INFORMATION:

The Confirmation of Effective Date

The FAA published this direct final rule with a request for comments in the Federal Register on March 31, 2008 (73 FR 16751), Docket No. FAA 2008-0170; Airspace Docket No. 08-AEA-16. The FAA uses the direct final rulemaking procedure for a non-controversial rule where the FAA believes that there will be no adverse public comment. This direct final rule advised the public that no adverse comments were anticipated, and that unless a written adverse comment, or a written notice of intent to submit such an adverse comment, were received within the comment period, the regulation would become effective on June 5, 2008. No adverse comments were received, and thus this notice confirms that effective date.

Issued in College Park, Georgia, on July 16, 2008.
Mark D. Ward,
Manager, Operations Support Group, Eastern Service Center, Air Traffic Organization.

[FR Doc. E8-19277 Filed 8-27-08; 8:45 am]

BILLING CODE 4910-13-M